AGENCY FOR INTERNATIONAL DEVELOPMENT

Notice of Meeting

Pursuant to the Federal Advisory Committee Act, notice is hereby given of a meeting of the Advisory Committee on Voluntary Foreign Aid (ACVFA).

Date: Friday, May 13, 2011.

Time: 9 to 11 a.m.

Location: National Press Club, 529 14th Street, NW., Washington, DC 20045.

Agenda

USAID Administrator Rajiv Shah will give remarks, followed by a panel discussion. Additional information will be available on the ACVFA Web site at http://www.usaid.gov/about_usaid/acvfa. The tentative agenda is subject to change.

Stakeholders

The meeting is free and open to the public. Persons wishing to attend can register online at http://www.usaid.gov/about_usaid/acvfa/acvfaregistration.html. For additional information, please contact Nicole Mlade at (202) 712-5512 or nmlade@usaid.gov.

Dated: April 18, 2011.
Christine Brown,
Office of the Executive Secretariat.

[FR Doc. 2011-9998 Filed 4-25-11; 8:45 am]

BILLING CODE P